DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS) Ad Hoc Work Group on Secondary Uses of Health Data.

Time and Date: June 21, 2007, 3:30 p.m.-5:30 p.m.; June 22, 2007, 9 a.m.-12 p.m.

Place: Natcher Conference Center, National Institutes of Health, 45 Center Drive, Bldg. 45, Bethesda, Maryland 20892.

Status: Open.

Purpose: To plan for upcoming hearings on the use of electronic clinical data for non-clinical (or secondary) use. Clear policies and appropriate practices in this area will facilitate the continued development of emerging health information infrastructures. The NCVHS has been asked by the Office of the National Coordinator for Health Information Technology (ONC) to assist in this effort by developing recommendations on policies needed to ensure appropriate use of clinical data for quality measurement and reporting.

For Further Information Contact: Substantive program information as well as summaries of meetings and a roster of committee members may be obtained from Debbie Jackson, Senior Program Analyst, NCVHS, National Center for Health Statistics, Centers for Disease Control and Prevention, 3311 Toledo Road, Room 2339, Hyattsville, Maryland 20782, telephone (301) 458-4614 or Marjorie S. Greenberg, Executive Secretary, NCVHS, National Center for Health Statistics, Centers for Disease Control and Prevention, Room 1100, Presidential Building, 3311 Toledo Road, Hyattsville, Maryland 20782, telephone: (301) 458-4245. Information also is available on the NCVHS home page of the HHS Web site: http://www.ncvhs.hhs.gov/ where an agenda for the meeting will be posted when available.

Should you require reasonable accommodation, please contact the CDC Office of Equal Employment Opportunity on (301) 458-4EEO (4336) as soon as possible.

Dated: June 7, 2007.
James Scanlon,
Deputy Assistant Secretary for Planning and Evaluation (OSDP), Office of the Assistant Secretary for Planning and Evaluation.

[FR Doc. 07-2980 Filed 6-15-07; 8:45 am]

BILLING CODE 4151-05-M